DEPARTMENT OF ENERGY

Federal Energy Regulatory Commission

Combined Notice of Filings

Take notice that the Commission has received the following Natural Gas Pipeline Rate and Refund Report filings:

Filings Instituting Proceedings

Docket Numbers: RP15-956-000.

Applicants: Gulf South Pipeline Company, LP.

Description: Section 4(d) rate filing per 154.204: Rate Case-Related Amendments to Neg Rate and Non-conforming Agmts to be effective 5/1/2015.

Filed Date: 5/1/15.

Accession Number: 20150501-5107.

Comments Due: 5 p.m. ET 5/13/15.

Docket Numbers: RP15-957-000.

Applicants: Gulf South Pipeline Company, LP.

Description: Section 4(d) rate filing per 154.204: Cap Rel Neg Rate Agmt (PH 41448 to Texla 44584) to be effective 5/1/2015.

Filed Date: 5/1/15.

Accession Number: 20150501-5108.

Comments Due: 5 p.m. ET 5/13/15.

Docket Numbers: RP15-958-000.

Applicants: Gulf South Pipeline Company, LP.

Description: Section 4(d) rate filing per 154.204: Cap Rel Neg Rate Agmt (Encana 37663 to BP 44594) to be effective 5/1/2015.

Filed Date: 5/1/15.

Accession Number: 20150501-5111.

Comments Due: 5 p.m. ET 5/13/15.

Docket Numbers: RP15-959-000.

Applicants: Gulf South Pipeline Company, LP.

Description: Section 4(d) rate filing per 154.204: Cap Rel Neg Rate Agmt (Willmut 35221 to BP 44595) to be effective 5/1/2015.

Filed Date: 5/1/15.

Accession Number: 20150501-5116.

Comments Due: 5 p.m. ET 5/13/15.

Docket Numbers: RP15-960-000.

Applicants: Gulf South Pipeline Company, LP.

Description: Section 4(d) rate filing per 154.204: Cap Rel Neg Rate Agmt (QEP 37657 to Trans LA 44614) to be effective 5/1/2015.

Filed Date: 5/1/15.

Accession Number: 20150501-5120.

Comments Due: 5 p.m. ET 5/13/15.

Docket Numbers: RP15-961-000.

Applicants: Gulf South Pipeline Company, LP.

Description: Section 4(d) rate filing per 154.204: Cap Rel Neg Rate Agmt (CenterPoint 35484 to BP 44642) to be effective 5/1/2015.

Filed Date: 5/1/15.

Accession Number: 20150501-5123.

Comments Due: 5 p.m. ET 5/13/15.

Docket Numbers: RP15-962-000.

Applicants: Rockies Express Pipeline LLC.

Description: Section 4(d) rate filing per 154.204: Neg Rate 2015-05-01 ITs Sequent, BP, Exelon, Mieco, Tenaska to be effective 5/1/2015.

Filed Date: 5/1/15.

Accession Number: 20150501-5232.

Comments Due: 5 p.m. ET 5/13/15.

Docket Numbers: RP15-963-000.

Applicants: Gulf South Pipeline Company, LP.

Description: Section 4(d) rate filing per 154.204: Cap Rel Neg Rate Agmt (CenterPoint 44554 to BP 44651) to be effective 5/1/2015.

Filed Date: 5/1/15.

Accession Number: 20150501-5267.

Comments Due: 5 p.m. ET 5/13/15.

Docket Numbers: RP15-964-000.

Applicants: Rockies Express Pipeline LLC.

Description: Section 4(d) rate filing per 154.204: Neg Rage 2015-05-01 Ultra, Encana, CP to be effective 5/1/2015.

Filed Date: 5/1/15.

Accession Number: 20150501-5282.

Comments Due: 5 p.m. ET 5/13/15.

Docket Numbers: RP15-965-000.

Applicants: Southeast Supply Header, LLC.

Description: Section 4(d) rate filing per 154.403(d)(2): 2015 TUP/SBA Annual Filing to be effective 6/1/2015.

Filed Date: 5/1/15.

Accession Number: 20150501-5388.

Comments Due: 5 p.m. ET 5/13/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-584-003.

Applicants: Columbia Gas Transmission, LLC.

Description: Compliance filing per 154.203: Revenue Sharing Report 2015.

Filed Date: 5/1/15.

Accession Number: 20150501-5141.

Comments Due: 5 p.m. ET 5/13/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2015.
Kimberly D. Bose,
Secretary.

[FR Doc. 2015-11282 Filed 5-8-15; 8:45 am]

BILLING CODE 6717-01-P